DEPARTMENT OF JUSTICE

Notice of Lodging of Proposed Consent Decree Under the Clean Water Act

Notice is hereby given that on April 20, 2010, a Consent Decree in United States of America v. Hovnanian Enterprises, Inc., Civil Action No. 2:10-cv-01742-TJS, was lodged with the United States District Court for the Eastern District of Pennsylvania.

The United States, together with the District of Columbia, the State of Maryland, the Commonwealth of Virginia, and the State of West Virginia four co-plaintiffs (“State Plaintiffs”), entered into the Consent Decree with Hovnanian Enterprises, Inc. (“Hovnanian”), a builder of residential homes that does business in nineteen states. Plaintiffs are filing concurrently with the Consent Decree a Complaint asserting claims against Hovnanian that are resolved by the Consent Decree.

The proposed Complaint alleges three types of storm water violations—discharges without a permit, failure to timely apply for permit coverage, and permit violations, in violation of Sections 301 and 308 of the CWA and analogous state law—and alleges a general pattern and practice of non-compliance at Hovnanian's Sites throughout the country.

The Consent Decree addresses Hovnanian's violations of the Clean Water Act (“CWA”) as well as violations of state and federal National Pollutant Discharge Elimination System (“NPDES”) permits governing the discharge of storm water from Hovnanian's construction Sites. The Consent Decree resolves claims of the United States and State Plaintiffs for past violations of storm water requirements at the Sites identified in Appendix A of the Complaint by requiring the payment of a civil penalty totaling $1 million and the institution of injunctive relief in the form of a nationwide management, reporting and training program to improve compliance with storm water requirements at Hovnanian's future construction Sites.

The Department of Justice will receive for a period of thirty (30) days from the date of this publication comments relating to this proposed Consent Decree. Comments should be addressed to the Assistant Attorney General, Environment and Natural Resources Division, and either e-mailed to pubcomment-ees.enrd@usdoj.gov or mailed to P.O. Box 7611, U.S. Department of Justice, Washington, DC 20044-7611, Attention: Nancy Flickinger (EES), and should refer to United States of America v. Hovnanian Enterprises, Inc., Civil Action No. 2:10-cv-01742-TJS, DOJ # 90-5-1-1-08709.

The proposed Consent Decree may be examined at the Office of the United States Attorney for the Eastern District of Pennsylvania, 615 Chestnut Street, Suite 1250, Philadelphia, PA 19016. The consent decree also may be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax No. (202) 514-0097, phone confirmation number (202) 514-1547. In requesting a copy from the Consent Decree Library, please enclose a check in the amount of $46.50 (25 cents per page reproduction cost for a full copy) payable to the U.S. Treasury.

Maureen Katz,
Assistant Chief, Environmental Enforcement Section, Environment and Natural Resources Division.

[FR Doc. 2010-11088 Filed 5-10-10; 8:45 am]

BILLING CODE 4410-15-P